DEPARTMENT OF HEALTH AND HUMAN SERVICES

45 CFR Part 60

RIN 0906-AA41

National Practitioner Data Bank for Adverse Information on Physicians and Other Health Care Practitioners: Medical Malpractice Payments Reporting Requirements

AGENCY: Health Resources and Services Administration, DHHS.

ACTION: Proposed rule; status.

SUMMARY: The Health Resources and Services Administration (HRSA) is announcing its intention to issue a second Notice of proposed Rulemaking (NPRM) on National Practitioner Data Bank (NPDB) Medical Malpractice payments Reporting Requirements following a period of data gathering and evaluation. This will involve a new 60-day public comment period for the revised proposal.

FOR FURTHER INFORMATION CONTACT: Thomas C. Croft, 301-443-2300.

SUPPLEMENTARY INFORMATION: Proposed rules regarding amending the medical malpractice payment reporting requirements for the NPDB were published on December 24, 1998 (63 FR 71255). More than 120 comments on the proposed rule were received. Given the large number of thoughtful comments and the high level of concern that was voiced about the potential impact of the proposal as published, HRSA believes it is imperative to gather additional data and conduct further analyses before proceeding. A new NPRM then will be published for public comment, with a goal of publishing the revised proposal by the end of 2000. The decision to publish another NPRM with its associated public comment period means that new final regulations likely will be implemented in 2001.

Authority: Secs. 401-432 of the Health Care Quality Improvement Act of 1986, Pub. L. 99-660, 100 Stat. 3784-3794, as amended by sec. 402 of Pub. L. 100-177, 101 Stat. 1007-1008 (42 U.S.C. 11101-11152).

Dated: October 19, 1999.
Claude Earl Fox,
Administrator, Health Resources and Services Administration.
Approved: December 3, 1999.
Donna E. Shalala,
Secretary.

[FR Doc. 00-9470 Filed 4-14-00; 8:45 am]

BILLING CODE 4160-15-M